DEPARTMENT OF DEFENSE

Office of the Secretary

[Docket ID: DoD-2019-OS-0103]

Submission for OMB Review; Comment Request

AGENCY: Office of the Under Secretary of Defense for Personnel and Readiness (OUSD(P&R)), Department of Defense (DoD).

ACTION: 30-Day information collection notice.

SUMMARY: The DoD has submitted to the Office of Management and Budget (OMB) for clearance the following proposal for collection of information under the provisions of the Paperwork Reduction Act.

DATES: Consideration will be given to all comments received by October 19, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Overseas Citizen Population Survey; OMB Control Number 0704-0539.

Type of Request: Extension.

Number of Respondents: 18,000.

Responses per Respondent: 1.

Annual Responses: 18,000.

Average Burden per Response: 15 minutes.

Annual Burden Hours: 4,500.

Needs and Uses: The primary objective of the Overseas Citizen Population Survey (OCPS), conducted on behalf of FVAP, is to refine FVAP's methodology for estimating the number of overseas U.S. civilians who are eligible to vote and who have registered and participated in the past. These estimates are then used to address the question of whether the registration and voting propensity of the overseas civilian population differs from that of comparable domestic or military populations. Subsequent to each federal election year, FVAP must report to Congress voter registration and participation rates for Uniformed Services voters and overseas citizens. Previous attempts to collect information on the overseas citizen population to identify and measure its voter registration and participation rates in Federal elections suffered from significant bias; this effort is focused on refining a well-established method to report voter registration and participation rates from a more well-defined subgroup of overseas civilians. Conducting this research will help FVAP meet its federal and congressional mandates in terms of reporting annually on its activities and overall voter registration and participation rates after each general federal election. The data obtained through this study is also intended to provide insights into existing barriers to UOCAVA voting and recommendations for addressing these challenges. To obtain the necessary information, the OCPS uses data collected from a sample of registered overseas civilian voters in conjunction with previous country level estimates developed by FVAP research and establishes a research method to assist FVAP in reporting voter registration and participation rates for general federal elections.

Affected Public: Individuals and Households.

Frequency: Biennially.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: September 13, 2023.
Aaron T. Siegel,
Alternate OSD Federal Register Liaison Officer, Department of Defense.

[FR Doc. 2023-20253 Filed 9-18-23; 8:45 am]

BILLING CODE 5001-06-P